FEDERAL COMMUNICATIONS COMMISSION

[CC Docket No. 02-53, DA 05-1045]

Presubscribed Interexchange Carrier Charges

AGENCY: Federal Communications Commission.

ACTION: Notice; waiver of compliance date.

SUMMARY: This document grants informal requests for waiver of the deadline for compliance with the Commission's revised presubscribed interexchange carrier (PIC) change charge policies. PIC change charges are federally-tariffed charges imposed by incumbent local exchange carriers on end-user subscribers when these subscribers change their long distance carriers. The order extends by six months the date by which incumbent local exchange carriers must file tariff revisions to comply with the revised PIC change charge requirements.

DATES: Effective Date: April 8, 2005.

Compliance Date: Incumbent local exchange carriers shall filed revised rates in compliance with the PIC Change Charge Order no later than October 17, 2005. These rates shall be effective on 15 days' notice.

FOR FURTHER INFORMATION CONTACT: Jennifer McKee, Wireline Competition Bureau, Pricing Policy Division, (202) 418-1530, jennifer.mckee@fcc.gov.

SUPPLEMENTARY INFORMATION: This is a summary of the order in CC Docket No. 02-53 released on April 11, 2005. The full text of this document is available on the Commission's Electronic Comment Filing System Web site and for public inspection during regular business hours in the FCC Reference Center, Room CY-A257, 445 Twelfth Street, SW., Washington, DC 20554.

On February 10, 2005, the Commission adopted a report and order revising its requirements regarding PIC change charges. Presubscribed Interexchange Carrier Charges, 70 FR 12601, March 15, 2005. PIC change charges are federally tariffed charges imposed by local exchange carriers (LECs) on end user subscribers when these subscribers change their presubscribed interexchange carriers (IXCs). Based on the record in the proceeding, the Commission required incumbent LECs to adopt separate PIC change charges for changes that are processed electronically and manually. The Commission adopted a safe harbor of $1.25 for electronically processed PIC changes, and a safe harbor of $5.50 for manually processed PIC changes. The Commission also required that, when a customer changes its PIC in conjunction with changing its intraLATA primary interexchange carrier (LPIC), incumbent LECs should assess half of the applicable federally-tariffed PIC change charge. Incumbent LECs were required to revise their Federal tariffs to reflect these changes within 30 days of publication of the order in the Federal Register, with the new rates to be effective on 15 days' notice. The PIC Change Charge Order was published in the Federal Register on March 15, 2005; therefore, incumbent LECs were required to file their tariff revisions by April 14, 2005.

Several individual incumbent LECs and trade groups representing incumbent LECs have informally requested that the Commission extend the effective date of the requirements in the PIC Change Charge Order. These entities assert that they will not be able by April 14 to make the changes necessary within their systems to assess separate charges for manually and electronically processed PIC changes, or to assess the 50 percent charge when PICs are changed in conjunction with LPICs.

The incumbent LECs have shown good cause for an extension of the tariff revision deadline. Several incumbent LECs have provided extensive explanations of the changes to their billing and operating systems necessary for implementation of the revised PIC change charges. We therefore find that a limited waiver of the deadline for complying with the PIC Change Charge Order is warranted. We do not, however, believe that the public interest is served by delaying the implementation of the PIC change charge requirements for the ten- to twelve-month period requested by some parties. Instead, we extend by six months the effective date for filing revised tariffs implementing the PIC change charge requirements. Based on information provided by several incumbent LECs, we believe that six months is a sufficient amount of time for incumbent LECs to make the system changes necessary to implement the revised PIC change charge requirements. This limited extension serves the public interest by allowing incumbent LECs to implement revised PIC change charges at one time, rather than in a piecemeal fashion, which could create customer confusion.

Accordingly, it is ordered, pursuant to section 1-4, 201, 203, 205, and 403 of the Communications Act of 1934, as amended, 47 U.S.C. 151-154, 201, 203, 205, and 403, §§ 1.3 and 1.41 of the Commission's rules, 47 CFR 1.3 and 1.41, and authority delegated under §§ 0.91 and 0.291 of the Commission's rules, 47 CFR 0.91 and 0.291, that the informal request of the incumbent LECs for a limited waiver of the date for filing tariff revisions related to the PIC Change Charge Order is granted, to the extent discussed above. Incumbent LECs shall file revised rates, to include one rate for PIC changes that are processed electronically and a separate rate for PIC changes that are processed manually, and rates equal to 50 percent of the full PIC change charge rate when a customer requests a PIC change in conjunction with an LPIC change, no later than October 17, 2005. These rates shall be effective on fifteen (15) days' notice.

Federal Communications Commission.
Lisa S. Gelb,
Deputy Chief, Wireline Competition Bureau.

[FR Doc. 05-8342 Filed 4-26-05; 8:45 am]

BILLING CODE 6712-01-P